DEPARTMENT OF DEFENSE

Department of the Air Force

HQ USAF Scientific Advisory Board

AGENCY: Department of the Air Force, DoD.

ACTION: Notice of meeting.

SUMMARY: Pursuant to Public Law 92-463, notice is hereby given of the forthcoming meeting of the 2001 S&T Review. The purpose of the meeting is to allow the SAB and study leadership to brief the Chief of Staff and Secretary of the Air Force on the results of their study. Because sensitive and contractor-proprietary information will be discussed, this meeting will be closed to the public.

DATES: August 6, 2002.

ADDRESSES: 4E869.

FOR FURTHER INFORMATION CONTACT: Major John Pernot, Air Force Scientific Advisory Board Secretariat, 1180 Air Force Pentagon, Rm 5D982, Washington, DC 20330-1180, (703) 697-4811.

Pamela D. Fitzgerald,
Air Force Federal Register Liaison Officer.

[FR Doc. 02-18364 Filed 7-19-02; 8:45 am]

BILLING CODE 5001-05-P